DEPARTMENT OF TRANSPORTATION

Federal Transit Administration

Environmental Impact Statement for the Long Island Rail Road Huntington/Port Jefferson Branch Yard

AGENCY: Federal Transit Administration (FTA), U.S. Department of Transportation (DOT).

ACTION: Notice of intent to prepare an environmental impact statement.

SUMMARY: The Federal Transit Administration (FTA) and the Metropolitan Transportation Authority (MTA) Long Island Rail Road (LIRR) intend to prepare an Environmental Impact Statement (EIS) in accordance with the National Environmental Policy Act (NEPA) analyzing alternatives to meet LIRR's need to store electric train cars on the railroad's Huntington/Port Jefferson Branch in Suffolk County, New York. As required by the Record of Decision issued by the FTA on May 21, 2001, for the MTA LIRR East Side Access Project, the EIS will be tiered from the Final EIS issued for the East Side Access Project in March 2001. As stated in the Final EIS for the East Side Access project, under a tiered NEPA EIS approach, the lead agency focuses on the issues that are ripe for decision in the first-tier document and prepares further environmental analyses as elements of the subsequent actions become adequately defined.

FTA and MTA/LIRR are notifying interested parties of the intent to prepare an EIS and inviting public participation in the study to identify a suitable site or sites to meet LIRR's existing and long-term storage needs on the Huntington/Port Jefferson Branch, east of Huntington between Huntington and Smithtown Stations. The new storage yard(s) will permit the LIRR to increase the number of electric train cars in operation on the Huntington/Port Jefferson Branch. Increased train cars will allow the LIRR to provide additional service to accommodate projected ridership growth, and provide new service to Grand Central Terminal as part of the LIRR's East Side Access Project, as well as to increase the number of electric train car spares to insure more reliable services.

DATES: The public is invited to make comments on the scope of the proposed project. Written comments should be sent to the LIRR by December 31, 2003. See ADDRESSES below. Scoping Meetings are scheduled as follows:

November 5, 2003

5 p.m.-9 p.m. (5-7 p.m. Information Open House; 7-9 p.m. Public Hearing), Kings Park High School, Route 25A, Kings Park, New York

November 6, 2003

5 p.m.-9 p.m. (5-7 p.m. Information Open House; 7-9 p.m. Public Hearing), Smithtown High School, 100 Central Road, Smithtown, New York

November 12, 2003

5 p.m.-9 p.m. (5-7 p.m. Information Open House; 7-9 p.m. Public Hearing), East Northport Middle School, South Auditorium, Fifth Avenue east of Larkfield Road, East Northport, New York

November 13, 2003

5 p.m.—9 p.m. (5-7 p.m. Information Open House; 7-9 p.m. Public Hearing), Huntington Intermediate School, 155 Lowndes Avenue, Huntington, New York

People with special needs should contact Peter Palamaro, Editorial Officer, at the LIRR at (718) 558-3809 or at the address below in advance of the meeting. The buildings are accessible to people with disabilities. A sign language interpreter will be available for the hearing impaired.

Scoping material will be available at the meeting(s) and may also be obtained in advance by contacting Peter Palamaro at the LIRR at (718) 558-3809 or at the MTA Web site at www.mta.info (click “MTA Home” then “Planning Studies” and “Port Jefferson Yard EIS”).

ADDRESSES: Written comments on the project scope should be sent to Peter Palamaro, Editorial Officer, LIRR, Public Affairs Department, Jamaica Station, Mail Code 0536, Jamaica, NY 11435. The scoping meetings will be held at the addresses listed above.

FOR FURTHER INFORMATION CONTACT: If you wish to be placed on the project mailing list to receive further information as the study develops, contact Peter Palamaro at the address and phone number above.

For further information you may also contact: Irwin Kessman, Director, Office of Planning and Project Development, Federal Transit Administration, Region II. One Bowling Green, Room 429, New York, NY 10004-1415; Telephone 212-668-2170.

SUPPLEMENTARY INFORMATION:

I. Scoping

The FTA and LIRR invite all interested individuals and organizations, and federal, state, and local agencies to provide comments on the scope of study. During the scoping process, comments should focus on identifying specific social, economic, or environmental issues to be evaluated and suggesting alternatives, which may be less costly or may have lesser environmental impacts, while achieving the transportation objectives of increasing the LIRR's storage capacity on the Huntington/Port Jefferson Branch. Comments should focus on the issues and alternatives for analysis. Scoping materials will be available at the meetings or in advance by contacting Peter Palamaro at LIRR, as indicated above.

Following the scoping process, LIRR will conduct public outreach activities, including meetings with local agencies, organizations, and distribution of study fact sheets. Every effort will be made to ensure that the widest possible range of participants has the opportunity to attend outreach meetings. Meetings will be announced through mailings, notices, advertisements, press releases and at the MTA Web site at www.mta.info (click “MTA Home” then “Planning Studies” and “Port Jefferson Yard EIS”).

II. Description of Study Area and Transportation Needs

The study area consists of the corridor along the LIRR's Huntington/Port Jefferson Branch between Huntington Station and Smithtown Station. The purpose of the study is to develop and evaluate a strategy or strategies to meet the LIRR's need for new storage capacity for electric train cars on the Huntington/Port Jefferson Branch, east of Huntington.

The LIRR has immediate as well as long-term storage needs for its electric train fleet. This immediate need to store electric train equipment and to deal with storage capacity constraints is most evident in Huntington on the Huntington/Port Jefferson Branch. Due to the lack of car storage capacity to originate service, LIRR currently operates several a.m. peak trains to Huntington from its West Side Yard facility, and this will become increasingly impractical as service increases to Penn Station during the morning peak period. Presently, electric train storage on the Huntington/Port Jefferson Branch relies on a siding, east of Huntington Station, with a three-train capacity that is already inadequate for current train storage.

Within the next 10 years, there will be an additional need for storage capacity on LIRR's Huntington/Port Jefferson Branch as a result of planned electric car fleet expansion and associated service improvements. The LIRR, in its efforts to meet increased passenger demands, projected ridership growth and reduce standees, as well as increase availability of spare cars during service or maintenance, plans to increase its electric fleet by up to 40 percent over the same 10 years. This will ensure that the demand for service can be met in the long term. With respect to future weekday a.m. peak hour ridership, the Huntington/Port Jefferson Branch is projected to have an increase of over 16,000 daily AM peak riders over the next 20-years. This growth accounts for 35-percent of systemwide growth over this time period.

In addition, LIRR's future East Side Access Project, with LIRR service to Grand Central Terminal to be implemented by 2012, will also increase electric train service on the Huntington/Port Jefferson Branch. Because the existing LIRR system does not have adequate storage capacity for the new electric cars, the planned service improvements on the Huntington/Port Jefferson Branch cannot be made unless additional space is obtained for storage of electric train cars on this branch.

III. Alternatives

All reasonable alternatives will be evaluated in the EIS, including a No Build Alternative, which will provide the basis for comparison of the build alternatives. The LIRR will identify alternative sites at which new electric rail car storage could be accommodated and analyze environmental and community impacts, operational factors, cost, and ability to meet the LIRR's long-term electric rail car storage needs for each alternative. It should be noted that third rail power will have to be extended to service any new yard east of Huntington as this area is located outside the existing electrified territory. New electric substations will also be required to accommodate the extension of third-rail power to the new yard. Minor track and grade crossing improvements in the newly electrified area may also be warranted. These project elements will also be analyzed.

IV. Probable Effects

The FTA and LIRR will evaluate the environmental, social, and economic impacts of each alternative, including air quality; noise and vibration; traffic, parking and pedestrians; energy and potential for conservation; safety and security; water quality; wetlands; flooding; navigable waterways and coastal zones; ecologically sensitive areas; endangered species; hazardous materials; land acquisition and displacements; land use, zoning, and economic development; consistency with local plans; historic properties; parkland; aesthetics; community disruption; environmental justice; construction impacts; and cumulative impacts. Measures to mitigate significant adverse impacts will be identified and alternatives for mitigation will be analyzed

V. FTA Procedures

Upon completion of the scoping process, the Draft EIS will be made available for public and agency review and comment for 45 days. Public hearing(s) on the Draft EIS will be held within the study area. On the basis of the Draft EIS as well as comments received from the public participation process, a Final EIS will be prepared.

Issued on: October 8, 2003.
Letitia Thompson,
FTA Regional Administrator.

[FR Doc. 03-26029 Filed 10-14-03; 8:45 am]

BILLING CODE 4910-57-P